DEPARTMENT OF JUSTICE

Federal Bureau of Investigation

Agency Information Collection Activities; Current Collection; Comments Requests

AGENCY: Federal Bureau of Investigation, Department of Justice.

ACTION: Notice of Information Collection Under Review; Extension of a Currently Approved Collection: Hate Crime Incident Report and Quarterly Hate Crime Report

The proposed information collection is published to obtain comments from the public and affected agencies. Comments are encouraged and will be accepted until July 25, 2000.

Request written comments and suggestions from the public and affected agencies concerning the proposed collection of information. Comments should address one or more of the following four points:

(1) Evaluate whether the proposed collection of information is necessary for the proper performance of the functions of the agency, including whether the information will have practical utility;

(2) Evaluate the accuracy of the agency estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Comments and/or suggestions regarding the item(s) contained in this notice, especially regarding the estimated public burden and associated response time should be directed to Gregory E. Scarbro (phone number and address listed below). Additional information as well as copies of the proposed information collection instrument with instructions are available by contacting Gregory E. Scarbro, Unit Chief, telephone 304-625-4830, FBI, CJIS Division, Statistical Unit, E-3, 1000 Custer Hollow Road, Clarksburg, WV 26306.

Overview of this information collection:

(1) Type of information collection: Extension of Current Collection.

(2) The title of the form/collection: Hate Crime Incident Report and Quarterly Hate Crime Report.

(3) The agency form number, if any, and applicable component of the Department Sponsoring the collection. Form: 11-1; 11-2. Federal Bureau of Investigation, Department of Justice.

(4) Affected public who will be asked or required to respond, as well as brief abstract. Primary: Local and State Law Enforcement Agencies. These reports will gather information necessary to monitor the bias motivation of selected criminal offenses. The resulting data are published annually.

(5) The FBI UCR Program is currently reviewing its race and ethnicity data collection in compliance with the Office of Management and Budget's Revisions for the Standards for the Classification of Federal Data on Race and Ethnicity.

(6) An estimate of the total number of respondents and the amount of time estimated for an average respondent to respond: 17,667 agencies with 106,002 responses (including zero reports); and with an average of 6 hours and 35 minutes annually devoted to compilation of data for this information collection.

(7) An estimate of the total public burden (in hours) associated with both collections: 15,900 hours annually.

If additional information is required contact: Mr. Robert B. Briggs, Clearance Officer, United States Department of Justice, Information Management and Security Staff, Justice Management Division, Suite 850, Washington Center, 1001 G Street, NW., Washington, DC 20530.

Dated: May 23, 2000.
Robert B. Briggs,
Department Clearance Officer, United States Department of Justice.

[FR Doc. 00-13307 Filed 5-25-00; 8:45 am]

BILLING CODE 4410-22-M